DEPARTMENT OF JUSTICE

Drug Enforcement Administration

Manufacturer of Controlled Substances; Notice of Application; Correction

By Notice dated June 28, 2004, and published in the Federal Register on July 13, 2004, (69 FR 42067-42068), dated April 29 2004, the listing of controlled substances for Oxycodone (9143) and Hydrocodone (9193), were inadvertently omitted, by Cedarburg Pharmaceuticals, Inc., 870 Badger Circle, Grafton, Wisconsin 53024.

Dated: November 22, 2004.
William J. Walker,
Deputy Assistant Administrator, Office of Diversion Control, Drug Enforcement Administration.

[FR Doc. 04-26734 Filed 12-3-04; 8:45 am]

BILLING CODE 4410-09-P